DEPARTMENT OF VETERANS AFFAIRS

[OMB Control No. 2900-0325]

Agency Information Collection (Certificate of Delivery of Advance Payment and Enrollment) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before August 12, 2013.

ADDRESSES: Submit written comments on the collection of information through www.Regulations.gov or to VA's OMB Desk Officer, OMB Human Resources and Housing Branch, New Executive Office Building, Room 10235, Washington, DC 20503 (202) 395-7316. Please refer to “OMB Control No. 2900-0325” in any correspondence.

FOR FURTHER INFORMATION CONTACT: Crystal Rennie, Enterprise Records Service (005R1B), Department of Veterans Affairs, 810 Vermont Avenue NW., Washington, DC 20420, (202) 632-7492, or email crystal.rennie@va.gov. Please refer to “OMB Control No. 2900-0325.”

SUPPLEMENTARY INFORMATION: Title: Certificate of Delivery of Advance Payment and Enrollment, VA Form 22-1999V.

OMB Control Number: 2900-0325.

Type of Review: Revision of a currently approved collection.

Abstract: VA will make payments of educational assistance in advance when the veteran, servicemember, reservist, or eligible person has specifically requested such payment. The school in which a student is accepted or enrolled delivers the advance payment to the student and is required to certify the deliveries to VA. VA Form 22-1999V serves as the certificate of delivery of advance payment and to report any changes in a student's training status. Schools are required to report when a student fails to enroll; has an interruption or termination of attendance; or unsatisfactory attendance, conduct or progress to VA.

An agency may not conduct or sponsor, and a person is not required to respond to a collection of information unless it displays a currently valid OMB control number. The Federal Register Notice with a 60-day comment period soliciting comments on this collection of information was published on February 26, 2013, at page 13159.

Affected Public: State, Local or Tribal Government.

Estimated Annual Burden: 76 hours.

Estimated Average Burden per Respondent: 5 minutes.

Frequency of Response: On occasion.

Estimated Number of Respondents: 159.

Estimated Total Number of Respondents: 700.

Dated: July 9, 2013.
By direction of the Secretary.
Crystal Rennie,
VA Clearance Officer, U.S. Department of Veterans Affairs.

[FR Doc. 2013-16755 Filed 7-11-13; 8:45 am]

BILLING CODE 8320-01-P